NUCLEAR REGULATORY COMMISSION

Sunshine Act Meetings

AGENCY HOLDING THE MEETINGS: Nuclear Regulatory Commission [NRC-2012-0002].

DATE: Weeks of February 20, 27, March 5, 12, 19, 26, 2012.

PLACE: Commissioners' Conference Room, 11555 Rockville Pike, Rockville, Maryland.

STATUS: Public and Closed.

Week of February 20, 2012

Wednesday, February 22, 2012

8:55 a.m.—Affirmation Session (Public Meeting) (Tentative)

a. Entergy Nuclear Generation Co. and Entergy Nuclear Operations, Inc. (Pilgrim Nuclear Power Station), Pilgrim Watch's Petition for Review of Memorandum and Order (Denying Pilgrim Watch's Requests for Hearing on New Contentions Relating to Fukushima Accident) Sept. 8, 2011 (Sept. 23, 2011) (Tentative)

b. Crow Butte Resources, Inc. (License Renewal for the In Situ Leach Facility, Crawford, Nebraska), Docket No. 40-8943, Memorandum (Bringing Matter of Concern to Commission's Attention) (Tentative)

This meeting will be webcast live at the Web address— www.nrc.gov.

9 a.m.—Briefing on Fort Calhoun (Public Meeting) (Contact: Jeff Clark, 817-860-8147).

This meeting will be webcast live at the Web address— www.nrc.gov.

Week of February 27, 2012—Tentative

Tuesday, February 28, 2012

9:30 a.m.—Briefing on the Threat Environment Assessment (Closed—Ex. 1)

Week of March 5, 2012—Tentative

There are no meetings scheduled for the week of March 5, 2012.

Week of March 12, 2012—Tentative

There are no meetings scheduled for the week of March 12, 2012.

Week of March 19, 2012—Tentative

There are no meetings scheduled for the week of March 19, 2012.

Week of March 26, 2012—Tentative

Tuesday, March 27, 2012

9 a.m.—Briefing on License Renewal for Research and Test Reactors (Public Meeting) (Contact: Jessie Quichocho, 301-415-0209)

This meeting will be webcast live at the Web address— www.nrc.gov.

* * * * *

* The schedule for Commission meetings is subject to change on short notice. To verify the status of meetings, call (recording)—(301) 415-1292. Contact person for more information: Rochelle Bavol, (301) 415-1651.

* * * * *

Additional Information

By a vote of 4-0 on February 10, 2012, the Commission determined pursuant to U.S.C. 552b(e) and § 9.107(a) of the Commission's rules that a Discussion of Management and Personnel issues be held on February 13, 2012, with less than one week notice to the public. The meeting was held on February 13, 2012.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: February 16, 2012.
Rochelle C. Bavol,
Policy Coordinator, Office of the Secretary.

[FR Doc. 2012-4226 Filed 2-17-12; 4:15 pm]

BILLING CODE 7590-01-P